ENVIRONMENTAL PROTECTION AGENCY

[EPA-HQ-OW-2007-0019; FRL-8285-7]

Draft National Coastal Condition Report III

AGENCY: Environmental Protection Agency (EPA).

ACTION: Notice of availability and request for comments.

SUMMARY: Notice of availability is hereby given for a 60-day public comment period on the draft National Coastal Condition Report III describing the condition of the Nation's coastal waters. Coastal waters are valuable from both an environmental and economic perspective. These waters are vulnerable to pollution from diverse sources. EPA expects this report will increase public awareness of the extent and seriousness of pollution and advance efforts to protect and restore coastal waters. EPA seeks public input concerning the information in the report, the availability of additional data, and the appropriateness of conclusions drawn from the information presented.

DATES: Comments must be received on or before May 8, 2007.

ADDRESSES: Submit your comments, identified by Docket ID No. EPA-HQ-OW-2007-0019, by one of the following methods:

www.regulations.gov: Follow on-line instructions for submitting comments.

E-mail: ow.docket@epa.gov,

Mail: EPA Docket Center (EPA/DC), Environmental Protection Agency, Water Docket,

Mailcode: 2822T, 1200 Pennsylvania Ave., NW., Washington, DC 20460.

Hand Delivery: EPA/DC, Water Docket, Environmental Protection Agency, EPA West, Room 3334, 1301 Constitution Ave., NW., Washington, DC 20004. Such deliveries are only accepted during the Docket's normal hours of operation, and special arrangements should be made for deliveries of boxed information.

Instructions: Direct your comments to Docket ID No. EPA-HQ-OW-2007-0019. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Barry Burgan, Ocean and Coastal Protection Division, Office of Water, 4504T, Environmental Protection Agency, 1200 Pennsylvania Avenue, NW., Washington, DC 20460, telephone number: 202-566-1242; fax number: 202-566-1336; e-mail address: Burgan.Barry@epa.gov or Virginia Engle, Gulf Ecology Division, Office of Research and Development, Environmental Protection Agency, 1 Sabine Island Drive, Gulf Breeze, Florida 32561; telephone number: (850) 934-9354; fax number: (850) 934-9201; e-mail address: Engle.Virginia@epa.gov.

SUPPLEMENTARY INFORMATION:

General Information

In 2001, the first National Coastal Condition Report was released, characterizing about 70% of the estuarine resources of the United States. Using available data from 1990-1996, EPA, the National Oceanic and Atmospheric Administration (NOAA), U.S. Geological Survey (USGS), U.S. Fish and Wildlife Service (USFWS), and U.S. Department of Agriculture (USDA) determined that the Nation's estuarine resources were in fair condition and presented this information in the first Report. The second National Coastal Condition Report, released in 2005, described the condition of 100% of the Nation's estuaries in the contiguous 48 states and Puerto Rico. This third edition of the National Coastal Condition Report serves as a continuing foundation for the Nation's efforts to protect, manage, and restore coastal ecosystems. Four Federal agencies (EPA, NOAA, USGS and the USFWS) and several state and regional/local organizations have come together to report on the current condition of the Nation's coasts.

The draft National Coastal Condition Report III describes the condition of coastal waters based on several available data sets from different agencies and areas of the country and summarizes them to present a continuing picture of the condition of coastal waters. Although the data sets presented do not cover all coastal areas (e.g., no data were collected in Alaska other than south central Alaska and the Trust Territories), they do provide a multi-regional assessment of coastal condition in the conterminous United States and Puerto Rico. For example, EPA's National Coastal Assessment is conducting estuarine monitoring in all 23 coastal states and Puerto Rico, accounting for 99.8% of estuarine acreage in the continental U.S. and Puerto Rico. Data from several regional and national programs conducted by NOAA, USGS and the USFWS are included in this assessment of coastal condition. This report serves as a useful tool for analyzing the progress of coastal programs implemented since the first Report and as a benchmark for the future and provides trends in condition over time. This report will be followed in subsequent years by reports focusing on continuing assessments of ecological condition, examinations of the trends in coastal condition, and assessments of more specialized coastal issues.

The draft National Coastal Condition Report III will undergo an external peer review conducted by EPA's Office of Research and Development. The peer review plan, including peer review charge questions, is available on EPA's Science Inventory Web site (http://cfpub.epa.gov/si/si_record_view.cfm?dirEntryID=161923). You may view and download the draft Report on EPA's Internet site at the Office of Water homepage at http://www.epa.gov/owow/oceans/nccr3/index.html under Recent Additions.

Dated: March 2, 2007.
Benjamin H. Grumbles,
Assistant Administrator for Water.

[FR Doc. E7-4294 Filed 3-8-07; 8:45 am]

BILLING CODE 6560-50-P